DEPARTMENT OF VETERANS AFFAIRS

[OMB Control No. 2900-0846]

Agency Information Collection Activity: VA Financial Services Center (VA-FSC) Vendor File Request Form

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before December 6, 2019.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0846” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: VA Financial Services Center (VA-FSC) Vendor File Request Form (VA Form 10091)

OMB Control Number: 2900-0846.

Type of Review: Extension of a currently approved collection.

Abstract: The authorizing statute for this data collection falls under 31 U.S.C. 3701 and Public Law 104-134, Section 31001, Debt Collection Improvement Act of 1996. The mission of the Nationwide Vendor File Division of the Department of Veterans Affairs—Financial Services Center (VA-FSC) is to add, modify, or delete vendor records in the Financial Management Services (FMS) vendor file. The VA-FSC FMS vendor file controls aspects of when, where, and how vendors are paid. There are currently more than 2.4 million active vendor records in FMS.

The VA-FSC Vendor File Request Form, VA Form 10091, was previously created to streamline the data required to establish a vendor record from multiple sources into a single form. The VA now seeks a routine three-year extension of the previous OMB PRA clearance for this form. VA Form 10091 will be used throughout the VA to gather essential payment data from vendors (commercial, individuals, Veterans, employees, etc.) to establish or update vendor records in order to process electronic payments through the ACH network to the vendor's financial institution.

Affected Public: Individuals and households.

Estimated Annual Burden: 37,500 hours.

Estimated Average Burden per Respondent: 15 minutes.

Frequency of Response: Once annually.

Estimated Number of Respondents: 150,000.

By direction of the Secretary.
Danny S. Green,
Interim VA Clearance Officer, Office of Quality, Performance and Risk (OQPR), Department of Veterans Affairs.

[FR Doc. 2019-21756 Filed 10-4-19; 8:45 am]

BILLING CODE 8320-01-P